DEPARTMENT OF ENERGY

National Nuclear Security Administration

Notice of Availability of the Draft Site-Wide Environmental Impact Statement for Continued Operation of Los Alamos National Laboratory, Los Alamos, NM

AGENCY: U.S. Department of Energy (DOE), National Nuclear Security Administration (NNSA).

ACTION: Notice of availability and public hearings.

SUMMARY: NNSA announces the availability of the Draft Site-wide Environmental Impact Statement for Continued Operation of Los Alamos National Laboratory, Los Alamos, New Mexico (LANL Draft SWEIS) (DOE/EIS-0380), and the dates and locations for the public hearings to receive comments on the Draft LANL SWEIS. The Draft LANL SWEIS was prepared in accordance with the Council on Environmental Quality's National Environmental Policy Act (NEPA) Implementing Regulations (40 CFR parts 1500-1508) and the DOE NEPA Implementing Procedures (10 CFR part 1021). The Draft LANL SWEIS analyzes the potential environmental impacts associated with continuing ongoing Los Alamos National Laboratory (LANL) operations and foreseeable new and modified operations and facilities. The Draft LANL SWEIS analyzes the No Action Alternative and two action alternatives: a Reduced Operations Alternative and an Expanded Operations Alternative. The No Action Alternative would continue currently assigned operations at LANL in support of DOE and NNSA missions. The Reduced Operation Alternative also includes most operations discussed under the No Action Alternative with reductions to certain LANL activities below the No Action Alternative level. The Expanded Operations Alternative includes operations discussed under the No Action Alternative plus new and expanded levels of operations in support of reasonably foreseeable future mission requirements.

DATES: The NNSA invites members of Congress, American Indian Tribal Governments, state and local governments, other Federal agencies, and the general public to provide comments on the Draft LANL SWEIS. The comment period extends from the publication of this Notice of Availability through September 5, 2006. Written comments must be received or postmarked by September 5, 2006. Comments postmarked after this date will be considered to the extent practicable. The NNSA will consider the comments in the preparation of the Final LANL SWEIS. Public hearings to present information and receive comments on the Draft LANL SWEIS will be held at three locations. This information will also be published in local New Mexico newspapers in advance of the hearings. Any necessary changes will be announced in the local media and on the web site noted in the ADDRESSES section of this notice. Oral and written comments will be accepted at the public hearings. The locations, dates, and times for these public hearings are as follows:

Tuesday, August 8, 2006, at 6:30 p.m. to 9:30 p.m., Fuller Lodge, Pajarito Room, 2132 Central Avenue, Los Alamos, NM.

Wednesday, August 9, 2006, at 6:30 p.m. to 9:30 p.m., Northern New Mexico Community College, Eagle Memorial Sportsplex, 921 Paseo de Onate, Espa±ola, NM.

Thursday, August 10, 2006, at 6:30 p.m. to 9:30 p.m., Santa Fe Community College, Main Building, Jemez Rooms, 6401 Richards Avenue, Santa Fe, NM.

The following Web site may be accessed for additional information: http://www.doeal.gov/laso/nepa/sweis.htm. For information or to record comments call 1-877-491-4957

ADDRESSES: Copies of the Draft LANL SWEIS are available for review at: The Los Alamos Outreach Center, 1619 Central Avenue, Los Alamos, New Mexico, 87544; the Office of the Northern New Mexico Citizens Advisory Board, 1660 Old Pecos Trail, Suite B, Santa Fe, New Mexico; and the Zimmerman Library, University of New Mexico, Albuquerque, New Mexico 87131. The Draft SWEIS will also be available on the Department of Energy Los Alamos Site Office's LASO NEPA website at: http://www.doeal.gov/laso/nepa/sweis.htm. Additionally, a copy of the Draft LANL SWEIS or its Summary may be obtained upon request by writing to: U.S. Department of Energy, National Nuclear Security Administration, Los Alamos Site Office, Attn: Ms. Elizabeth Withers, Office of Environmental Stewardship, 528 35th Street, Los Alamos, New Mexico, 87544; or by facsimile ((505) 667-5948); or by e-mail at: LANL_SWEIS@doeal.gov.

Specific information regarding the public hearings can also be obtained by the means described above. Comments concerning the Draft LANL SWEIS can be submitted to the NNSA Los Alamos Site Office by the means described above or by leaving a message on the LASO EIS Hotline at (toll free) 1-877-491-4957. The Hotline will have instructions on how to record comments. Please mark all envelopes, faxes and e-mail: “Draft LANL SWEIS Comments”.

FOR FURTHER INFORMATION CONTACT: For general information on NNSA NEPA process, please contact: Ms. Alice Williams, NA-56, NEPA Compliance Officer for Defense Programs, U.S. Department of Energy, National Nuclear Security Administration, 1000 Independence Avenue, SW., Washington, DC 20585, or telephone 202-586-6847, or Ms. Elizabeth Withers, NEPA Compliance Officer, U.S. Department of Energy, Los Alamos Site Office, 528 35th Street, Los Alamos, New Mexico, 87004, or telephone 505-845-4984. For general information about the DOE NEPA process, please contact: Ms. Carol Borgstrom, Director, Office of NEPA Policy and Compliance (EH-42), U.S. Department of Energy, 1000 Independence Avenue, SW., Washington, DC 20585, (202) 586-4600, or leave a message at 1-800-472-2756.

SUPPLEMENTARY INFORMATION: The primary purpose and need for continued operation of LANL is to provide support for DOE and NNSA core missions as directed by Congress and the President. NNSA's need to continue operating LANL is focused on their obligation to ensure a safe and reliable nuclear weapons stockpile. LANL is also needed to support other Federal agencies, including the Department of Homeland Security. The Draft LANL SWEIS analyzes the environmental impacts of operations at LANL.

LANL is located in north-central New Mexico and covers an area of about 40 square miles (104 square kilometers). LANL was established in 1943 as “Project Y” of the Manhattan Project with a single-focused national defense mission—to build the world's first nuclear weapon. After World War II ended, Project Y was designated a permanent research and development laboratory and its mission support work was expended from defense and related research and development to incorporate a wide variety of new work assignments in support of other Federal Government and civilian programs. LANL is now a multi-disciplinary, multipurpose institution engaged in theoretical and experimental research and development.

DOE issued a Final SWEIS and Record of Decision in 1999 for the continued operation of LANL. DOE regulations implementing NEPA require the evaluation of site-wide NEPA analyses every five years to determine their continued applicability; such a five-year evaluation was initiated for the 1999 SWEIS in 2004, and NNSA subsequently made a determination to prepare a new SWEIS for LANL operations. Decisions regarding LANL operations that will be based upon impact information contained within this SWEIS will replace previous decisions announced through the 1999 ROD for LANL operations.

The alternatives evaluated in the Draft LANL SWEIS represent a range of operational levels ranging from the minimal reasonable activity levels (Reduced Operations Alternative), to the highest reasonable activity levels that could be supported by current facilities, plus the potential expansion and construction of new facilities for existing capabilities and for specifically identified future actions (Expanded Operations Alternative). The No Action Alternative would continue current mission support work at LANL and includes approved interim actions and facility construction, expansions or modifications, and decontamination and decommissioning for which NEPA impact analysis has already been completed. All alternatives assume LANL will continue to operate as a NNSA national security laboratory for the foreseeable future.

Following the end of the public comment period described above, the NNSA will consider and respond to the comments received, and issue the Final LANL SWEIS. The NNSA will consider the environmental impact analysis presented in the Final LANL SWEIS, along with other information, in determining the Record of Decision for the continued operation of LANL.

Signed in Washington, DC, this 26th day of May 2006.
Thomas P. D'Agostino,
Acting Administrator, National Nuclear Security Administration.

[FR Doc. 06-6055 Filed 7-6-06; 8:45 am]

BILLING CODE 6450-01-P